DEPARTMENT OF HEALTH AND HUMAN SERVICES

Centers for Disease Control and Prevention

Draft Guideline for the Prevention and Control of Norovirus Gastroenteritis Outbreaks in Healthcare Settings

AGENCY: Centers for Disease Control and Prevention (CDC), Department of Health and Human Services (DHHS).

ACTION: Notice of availability and request for public comment.

SUMMARY: This notice is a request for review of and comment on the Draft Guideline for the Prevention and Control of Norovirus Gastroenteritis Outbreaks in Healthcare Settings, available on the following Web site: http://www.cdc.gov/publiccomments/.

This document is for use by infection prevention staff, healthcare epidemiologists, healthcare administrators, nurses, other healthcare providers, and persons responsible for developing, implementing, and evaluating infection prevention and control programs for healthcare settings across the continuum of care. This guideline provides evidence-based recommendations for prevention and control of norovirus outbreaks in healthcare settings.

DATES: Comments must be received on or before July 16, 2010.

ADDRESSES: Comments on the Draft Guideline should be submitted by e-mail to HCNoro@cdc.gov or by mail to CDC, Division of Healthcare Quality Promotion, Attn: Michelle King, 1600 Clifton Rd., NE, Mailstop A-07, Atlanta, Georgia, 30333; or by fax 404-639-4049. All comments received will be posted electronically for viewing at: http://www.cdc.gov/publiccomments/.

FOR FURTHER INFORMATION CONTACT: Michelle King, HICPAC, Division of Healthcare Quality Promotion, NCEZID, CDC, 1600 Clifton Road, NE., Mailstop A-07, Atlanta, Georgia 30333, Telephone: (404) 639-2936, E-mail: HICPAC@cdc.gov.

Dated: June 10, 2010.
Tanja Popovic,
Deputy Associate Director of Science Centers for Disease Control and Prevention.

[FR Doc. 2010-14492 Filed 6-15-10; 8:45 am]

BILLING CODE 4163-18-P